DEPARTMENT OF ENERGY

10 CFR Part 430

[EERE-2021-BT-STD-0003]

RIN 1904-AF13

Energy Conservation Program for Appliance Standards: Procedures, Interpretations, and Policies for Consideration in New or Revised Energy Conservation Standards and Test Procedures for Consumer Products and Commercial/Industrial Equipment

AGENCY: Office of Energy Efficiency and Renewable Energy, Department of Energy.

ACTION: Extension of public comment period.

SUMMARY: On July 7, 2021, the U.S. Department of Energy (“DOE”) published a notice of proposed rulemaking (“NOPR”) pertaining to procedures, interpretations, and policies for consideration in new or revised energy conservation standards and test procedures for consumer products and commercial/industrial equipment. The notice provided an opportunity for submitting written comments, data, and information by August 23, 2021. On July 29, 2021, DOE received a request from the Association of Home Appliance Manufacturers, the Air Conditioning, Heating, and Refrigeration Institute, and the National Electrical Manufacturers Association (“Joint Commenters”), to extend the public comment period to September 13, 2021. DOE has reviewed this request and is granting an extension of the public comment period to allow public comments to be submitted until September 13, 2021.

DATES: The comment period for the NOPR published on July 7, 2021 (86 FR 35668) is extended. DOE will accept comments, data, and information regarding this NOPR on or before September 13, 2021.

ADDRESSES: Interested persons are encouraged to submit comments using the Federal eRulemaking Portal at www.regulations.gov. Follow the instructions for submitting comments. Alternatively, interested persons may submit comments, identified by docket number EERE-2021-BT-STD-0003 by any of the following methods:

1. Federal eRulemaking Portal: www.regulations.gov. Follow the instructions for submitting comments.

2. Email: To processrule2021STD0003@ee.doe.gov. Include docket number EERE-2021-BT-STD-0003 in the subject line of the message.

No telefacsimilies (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, not all documents listed in the index may be publicly available, such as information that is exempt from public disclosure.

The docket web page can be found at: www.regulations.gov/docket/EERE-2021-BT-STD-0003. The docket web page contains instructions on how to access all documents, including public comments, in the docket.

FOR FURTHER INFORMATION CONTACT: Mr. John Cymbalsky, U.S. Department of Energy, Office of Energy Efficiency and Renewable Energy, Building Technologies Office, EE-5B, 1000 Independence Avenue SW, Washington, DC 20585-0121. Telephone: (202) 287-1692. Email: ApplianceStandardsQuestions@ee.doe.gov.

Mr. Pete Cochran, U.S. Department of Energy, Office of the General Counsel, GC-33, 1000 Independence Avenue SW, Washington, DC 20585-0121. Telephone: (202) 586-9496. Email: Peter.Cochran@hq.doe.gov.

For further information on how to submit a comment or review other public comments and the docket contact the Appliance and Equipment Standards Program staff at (202) 287-1445 or by email: ApplianceStandardsQuestions@ee.doe.gov.

SUPPLEMENTARY INFORMATION: On April 12, 2021, DOE proposed major revisions to the Department's “Procedures, Interpretations, and Policies for Consideration of New or Revised Energy Conservation Standards and Test Procedures for Consumer Products and Certain Commercial/Industrial Equipment” (“Process Rule”) in a notice of proposed rulemaking that accepted comments on those proposed revisions through May 27, 2021 (86 FR 18901). In a subsequent NOPR that published on July 7, 2021, DOE proposed additional revisions to the Process Rule and requested comment on the proposals and any potential alternatives (86 FR 35668). These additional proposed revisions are consistent with current DOE practice and would remove unnecessary obstacles to DOE's ability to meet its statutory obligations under the Energy Policy and Conservation Act (“EPCA”). On July 29, 2021, interested parties in the matter, the Joint Commenters, requested an extension of the public comment period for the NOPR to September 13, 2021.¹ The Joint Commenters asked for this additional time due to their assertion that the proposed rule is complex and multi-faceted which requires more time to effectively review it and formulate their comments. The Joint Commenters also stated that they would need more time after the public webinar to formulate and submit their comments.

¹ The joint commenters submitted the request to DOE via email and is available in the docket at https://www.regulations.gov/document/EERE-2021-BT-STD-0003-0047.

DOE has reviewed the request and is extending the comment period to September 13, 2021 to allow additional time for interested parties to submit comments.

Signing Authority

This document of the Department of Energy was signed on August 2, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 3, 2021.
Treena V. Garrett,
Federal Register Liaison Officer, U.S. Department of Energy.

[FR Doc. 2021-16828 Filed 8-6-21; 8:45 am]

BILLING CODE 6450-01-P